DEPARTMENT OF DEFENSE

GENERAL SERVICES ADMINISTRATION

NATIONAL AERONAUTICS AND SPACE ADMINISTRATION

[OMB Control No. 9000-0155; Docket 2017-0053; Sequence 18]

Information Collection; Prohibition of Acquisition of Products Produced by Forced or Indentured Child Labor

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division (MVCB) will be submitting to the Office of Management and Budget (OMB) a request to review and approve an extension of a previously approved information collection requirement regarding prohibition of acquisition of products produced by forced or indentured child labor.

DATES: Submit comments on or before January 23, 2018.

ADDRESSES: Submit comments identified by Information Collection 9000-0155, Prohibition of Acquisition of Products Produced by Forced or Indentured Child Labor, by any of the following methods:

• Regulations.gov: http://www.regulations.gov. Submit comments via the Federal eRulemaking portal by searching the OMB control number 9000-0155. Select the link “Comment Now” that corresponds with “Information Collection 9000-0155, Prohibition of Acquisition of Products Produced by Forced or Indentured Child Labor”. Follow the instructions provided on the screen. Please include your name, company name (if any), and “Information Collection 9000-0155, Prohibition of Acquisition of Products Produced by Forced or Indentured Child Labor” on your attached document.

• Mail: General Services Administration, Regulatory Secretariat Division (MVCB), 1800 F Street NW., Washington, DC 20405. ATTN: Mr. Poe/IC 9000-0155, Prohibition of Acquisition of Products Produced by Forced or Indentured Child Labor.

Instructions: Please submit comments only and cite Information Collection 9000-0155, Prohibition of Acquisition of Products Produced by Forced or Indentured Child Labor, in all correspondence related to this collection. All comments received will be posted without change to http://www.regulations.gov, including any personal and/or business confidential information provided.

FOR FURTHER INFORMATION CONTACT: Ms. Zenaida Delgado, Procurement Analyst, Acquisition Policy Division, GSA, at 202-969-7207, or email zenaida.delgado@gsa.gov.

SUPPLEMENTARY INFORMATION:

A. Purpose

This information collection complies with Executive Order 13126, Prohibition of Acquisition of Products Produced by Forced or Indentured Child Labor. Executive Order 13126 requires that this prohibition be enforced within the Federal acquisition system, including a provision that requires the contractor to certify to the contracting officer that the contractor or, in the case of an incorporated contractor, a responsible official of the contractor, has made a good faith effort to determine whether forced or indentured child labor was used to mine, produce, or manufacture any product furnished under the contract and that, on the basis of those efforts, the contractor is unaware of any such use of child labor.

The information collection requirements of the Executive Order are evidenced via the certification requirements delineated at FAR 52.212-3 paragraph (i), and 52.222-18.

DoD, GSA and NASA analyzed the FY 2017 data from the System for Award Management (SAM) to develop the estimated burden hours for this information collection.

B. Annual Reporting Burden

Respondents: 1,104.

Responses per Respondent: 1.

Total Annual Responses: 1,104.

Hours per Response: 0.18.

Total Burden Hours: 198.

C. Public Comments

Public comments are particularly invited on: Whether the proposed collection of information is necessary for the proper performance of the functions of the FAR, including whether the information will have practical utility; the accuracy of the estimate of the burden of the information collection; ways to enhance the quality, utility, and clarity of the information to be collected; and ways to minimize the burden of the information collection on respondents, including the use of automated collection techniques or other forms of information technology.

Obtaining Copies of Proposals: Requesters may obtain a copy of the information collection documents from the General Services Administration, Regulatory Secretariat Division (MVCB), 1800 F Street NW., Washington, DC 20405. Please cite OMB Control No. 9000-0155, Prohibition of Acquisition of Products Produced by Forced or Indentured Child Labor, in all correspondence.

Dated: November 20, 2017.
Lorin S. Curit,
Director, Federal Acquisition Policy Division, Office of Government-wide Acquisition Policy, Office of Acquisition Policy, Office of Government-wide Policy.

[FR Doc. 2017-25429 Filed 11-22-17; 8:45 am]

BILLING CODE 6820-EP-P